DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 13, 2006.

Interested persons are invited to submit written comments regarding the subject matter of the investigations to the Director, Division of Trade Adjustment Assistance, at the address shown below, not later than February 13, 2006.

The petitions filed in this case are available for inspection at the Office of the Director, Division of Trade Adjustment Assistance, Employment and Training Administration, U.S. Department of Labor, Room C-5311, 200 Constitution Avenue, NW., Washington, DC 20210.

Signed at Washington, DC, this 26th day of January 2006.
Erica R. Cantor,
Director, Division of Trade Adjustment Assistance.

Appendix
[TAA petitions instituted between 1/9/06 and 1/13/06]
TA-W | Subject firm (petitioners) | Location | Date of institution | Date of petition
58593 | Pliana, Inc. (Comp) | Charlotte, NC | 01/09/06 | 01/06/06
58594 | Donaldson Filtration Systems (State) | Grinnell, IA | 01/09/06 | 01/06/06
58595 | Lear Corporation (Union) | Plymouth, MI | 01/09/06 | 01/05/05
58596 | T.I. Industries (Comp) | Lexington, NC | 01/09/06 | 01/03/06
58597 | Cooper Standard Automotive (UAW) | Gaylord, MI | 01/09/06 | 12/27/05
58598 | Springs Global US, Inc. (Comp) | Fort Mill, SC | 01/09/06 | 01/06/06
58599 | TRX Fulfillment Services (State) | Atlanta, GA | 01/09/06 | 01/09/06
58600 | Tex-Tenn Corporation (Comp) | Gray, TN | 01/09/06 | 01/09/06
58601 | Gould Electronics, Inc. (State) | Chandler, AZ | 01/09/06 | 01/09/06
58602 | Leggett and Platt, Inc. (Wkrs) | Dubuque, IA | 01/10/06 | 01/06/06
58603 | Goody Products, Inc. (Comp) | Manchester, GA | 01/10/06 | 01/06/06
58604 | Cohn Athletic Mfg. and Service Comapny (State) | St. James, MO | 01/10/06 | 01/10/06
58605 | NVF Company (Union) | Yorklyn, DE | 01/10/06 | 01/10/06
58606 | Osram Sylvania (Union) | Warren, PA | 01/10/06 | 01/10/06
58607 | Kellwood Company (Comp) | Morgantown, KY | 01/10/06 | 01/10/06
58608 | Rug Barn ( The) (Wkrs) | Abbeville, SC | 01/11/06 | 01/10/06
58609 | American Decorative Surfaces, Inc. (UNITE) | Dupo, IL | 01/11/06 | 01/10/06
58610 | Copeland Corporation (Comp) | Shelby, NC | 01/11/06 | 01/11/06
58611 | C-COR Access and Transport Business Unit (Comp) | Wallingford, CT | 01/11/06 | 01/10/06
58612 | MKS Instruments Medical Electronics (Comp) | Colorado Springs, CO | 01/11/06 | 01/11/06
58613 | Olon Industries (Comp) | Atlanta, GA | 01/11/06 | 01/03/06
58614 | Lenoir Mirror Company (State) | Lenoir, NC | 01/11/06 | 01/11/06
58615 | Bristol Compressors, Inc. (Comp) | Bristol, VA | 01/11/06 | 01/11/06
58616 | Linn Benton Community College (Wkrs) | Corvallis, OR | 01/12/06 | 01/10/06
58617 | Taylor's Leatherwear (Comp) | Tullahoma, TN | 01/12/06 | 01/06/06
58618 | W.E. Stephens Mfg. Company (Comp) | Nashville, TN | 01/12/06 | 01/11/06
58619 | Woodard, LLC (State) | Owosso, MI | 01/12/06 | 01/12/06
58620 | Bankers Trust Services (State) | New York, NY | 01/12/06 | 01/12/06
58621 | Murata Electronics North America, Inc. (Wkrs) | State College, PA | 01/12/06 | 01/11/06
58622 | Springs Inudustries (Comp) | Swannanoa, NC | 01/12/06 | 01/12/06
58623 | Clemson Centre (Comp) | Clemson, SC | 01/12/06 | 01/12/06
58624 | Fairchild Semiconductor International (Comp) | Mountaintop, PA | 01/12/06 | 01/11/06
58625 | New Venture Industries (UAW) | Grand Blanc, MI | 01/12/06 | 01/11/06
58626 | Nutone, Inc. (UAW) | Cincinati, OH | 01/12/06 | 01/11/06
58627 | Char Broil, LLC (Comp) | Columbus, GA | 01/12/06 | 01/04/06
58628 | Five Rivers Electronic Innovations (IUE) | Greeneville, TN | 01/12/06 | 01/06/06
58629 | Consolidated Container Co. (Union) | Leetsdale, PA | 01/12/06 | 01/11/06
58630 | Swagelok Biopharm Services Company (Wkrs) | North Tonawanda, NY | 01/13/06 | 01/05/06
58631 | Newburgh Dye and Printing, Inc. (State) | Newburgh, NY | 01/13/06 | 01/12/06
58632 | Leyold Vacuum (State) | Tempe, AZ | 01/13/06 | 01/12/06
58633 | Southern Hardwoods, Inc. (Wkrs) | Laurinburg, NC | 01/13/06 | 01/10/06
58634 | Carolina Quilting Company, Inc. (Wkrs) | Lawndale, NC | 01/13/06 | 12/19/05
58635 | Land America National Lender Services (Wkrs) | Englewood, CO | 01/13/06 | 01/13/06
58636 | Smith and Nephew Endoscopy (Comp) | Andover, MA | 01/13/06 | 01/11/06

[FR Doc. E6-1497 Filed 2-2-06; 8:45 am]

BILLING CODE 4510-30-P